DEPARTMENT OF HEALTH AND HUMAN SERVICES

Health Resources and Services Administration

Advisory Committee on Heritable Disorders in Newborns and Children; Notice of Meeting

In accordance with section 10(a)(2) of the Federal Advisory Committee Act (Public Law 92-463), notice is hereby given of the following meeting:

Name: Advisory Committee on Heritable Disorders in Newborns and Children (ACHDNC).

Dates and Times: October 1, 2008, 1 p.m. to 5 p.m.; October 2, 2008, 8 a.m. to 3 p.m.

Place: Capital Hilton, 1001 16th Street, NW., Washington, DC 20036.

Status: The meeting will be open to the public with attendance limited to space availability. Participants are asked to register for the meeting by going to the registration Web site at http://events.SignUp4.com/ACHDNC1008. Individuals who need special assistance, such as sign language interpretation or other reasonable accommodations, should indicate their needs on the registration Web site. The registration deadline is Tuesday, September 30, 2008. If there are technical problems gaining access to the Web site, please contact Tamar R. Shealy, Meetings Manager, Conference and Meetings Management, Altarum Institute, telephone: (202) 828-5100.

Purpose: The ACHDNC was established to advise and guide the Secretary regarding the most appropriate application of universal newborn screening tests, technologies, policies, guidelines and programs for effectively reducing morbidity and mortality in newborns and children having or at risk for heritable disorders. The ACHDNC also provides advice and recommendations concerning the grants and projects authorized under the Heritable Disorders Program.

Agenda: The meeting will include presentations and continued discussions on the nomination/evaluation process for newborn screening candidate conditions. There will be presentations on emergency preparedness and contingency planning for newborn screening, as well as presentations on the continued work and reports of the ACHDNC's subcommittees on laboratory standards and procedures, follow-up and treatment, and education and training.

Proposed agenda items are subject to change as priorities dictate. The Agenda, Committee Roster and Charter, presentations, and meeting materials can be located at the home page of the Web site at http://events.SignUp4.com/ACHDNC1008.

Public Comments: Members of the public can present oral comments during the public comment period of the meeting. Those individuals are required to register online by Tuesday, September 30, 2008, at http://events.SignUp4.com/ACHDNC1008. Requests will contain the name, address, telephone number, and any professional or business affiliation of the person desiring to make an oral presentation. Groups having similar interests are requested to combine their comments and present them through a single representative. The list of public comment participants will be posted on the Web site. Parties wishing to submit written comments should ensure that the comments are postmarked or e-mailed no later than Friday, September 26, 2008, for consideration. Comments should be submitted to Tamar R. Shealy, Meetings Manager, Conference and Meetings Management, Altarum Institute, 1200 18th Street, NW., Suite 700, Washington, DC 20036, telephone: (202) 828-5100; fax: (202) 785-3083, or e-mail: Tamar.Shealy@altarum.org.

Contact Person: Anyone interested in obtaining other relevant information should write or contact Jill F. Shuger, M.S., Maternal and Child Health Bureau, Health Resources and Services Administration, Room 18A-19, Parklawn Building, 5600 Fishers Lane, Rockville, Maryland 20857, telephone (301) 443-1080, jshuger@hrsa.gov. Information on the Advisory Committee is available at http://mchb.hrsa.gov/heritabledisorderscommittee.

Dated: August 27, 2008.
Alexandra Huttinger,
Director, Division of Policy Review and Coordination.

[FR Doc. E8-20441 Filed 9-2-08; 8:45 am]

BILLING CODE 4165-15-P